DEPARTMENT OF TRANSPORTATION

Surface Transportation Board

[Docket No. AB 57 (Sub-No. 59X)]

Soo Line Railroad Company—Discontinuance of Trackage Rights Exemption—in Wayne, Washtenaw, Oakland, Livingston, Ingham, Clinton, Eaton, Barry, Ionia, Kent, Ottawa, Allegan, Van Buren, and Berrien Counties, MI, LaPorte, Porter, and Lake Counties, IN, and Cook County, IL

Soo Line Railroad Company (Soo Line) ¹ has filed a verified notice of exemption under 49 CFR Part 1152 Subpart F—Exempt Abandonments and Discontinuances of Service to discontinue its overhead trackage rights over approximately 298 miles of rail line owned and/or operated by CSX Transportation, Inc. (CSXT) extending between Chicago, Ill., and Rougemere Yard in Dearborn Mich.² The Line traverses the following United States Postal Service Zip Codes: In Michigan 48120, 48126, 48228, 48239, 48150, 48170, 48168, 48167, 48178, 48116, 48843, 48855, 48836, 48892, 48895, 48864, 48823, 48912, 48906, 48837, 48861, 48890, 48849, 48815, 49302, 49301, 49512, 49508, 49507, 49503, 49509, 49519, 49518, 49428, 49426, 49464, 49424, 49423, 49419, 49408, 49450, 49056, 49027, 49013, 49057, 49098, 49038, 49022, 49085, 49127, 49106, 49125, 49128, 49116, 49129, and 49117; in Indiana 46360, 46304, 46368, 46403, 46402, 46406, 46312, and 46394; and in Illinois 60131, 60171, 60707, 60639, 60651, 60644, 60624, 60623, 60632, 60629, 60652, 60636, 60621, 60620, 60619, and 60617.

¹ Soo Line is a wholly owned indirect subsidiary of Canadian Pacific Railway Company.

² Soo Line acquired those overhead trackage from CSXT's predecessor, the Chesapeake and Ohio Railway Company, pursuant to an agreement dated July 16, 1985. See Soo Line R.R..—Joint Use of Lines—Chesapeake and Ohio Ry., Docket No. FD 30703 (ICC served Sept. 10, 1986). On June 15, 2010, CSXT submitted a letter stating that it supports the discontinuance of service over the 298 miles of line by Soo Line and that CSXT and Soo Line have agreed to terminate that agreement. CSXT states that it has provided local and overhead service during the term of the agreement and will continue to do so after Soo Line discontinues its overhead service on the line.

Soo has certified that: (1) No local traffic has moved over the line via Soo Line's overhead trackage rights for at least 2 years; (2) any Soo Line overhead traffic can be rerouted over other lines; (3) no formal complaint filed by a user of Soo Line's overhead trackage rights service on the line (or by a state or local government entity acting on behalf of such user) regarding cessation of service over the line either is pending with the Board or with any U.S. District Court or has been decided in favor of complainant within the 2-year period; and (4) the requirements at 49 CFR 1105.12 (newspaper publication), and 49 CFR 1152.50(d)(1) (notice to governmental agencies) have been met.

As a condition to this exemption, any employee adversely affected by the discontinuance of service shall be protected under Oregon Short Line Railroad-Abandonment Portion Goshen Branch Between Firth & Ammon, in Bingham & Bonneville Counties, Idaho, 360 I.C.C. 91 (1979). To address whether this condition adequately protects affected employees, a petition for partial revocation under 49 U.S.C. 10502(d) must be filed.

Provided no formal expression of intent to file an offer of financial assistance (OFA) has been received, this exemption will be effective on July 30, 2010, unless stayed pending reconsideration. Petitions to stay that do not involve environmental issues and formal expressions of intent to file an OFA for continued rail service under 49 CFR 1152.27(c)(2) ³ must be filed by July 12, 2010.⁴ Petitions to reopen must be filed by July 20, 2010, with: Surface Transportation Board, 395 E Street, SW., Washington, DC 20423-0001.

³ Each OFA must be accompanied by the filing fee, which currently is set at $1,500. See 49 CFR 1002.2(f)(25).

⁴ Because this is a discontinuance proceeding and not an abandonment, trail use/rail banking and public use conditions are not appropriate. Likewise, no environmental or historical documentation is required here under 49 CFR 1105.6(c) and 1105.8(b), respectively.

A copy of any petition filed with the Board should be sent to Soo Line's representative: Terence M. Hynes, Sidley Austin LLP, 1501 K Street, NW., Washington, DC 20005.

If the verified notice contains false or misleading information, the exemption is void ab initio.

Board decisions and notices are available on our Web site at http://www.stb.dot.gov.

Decided: June 24, 2010.
By the Board, Rachel D. Campbell, Director, Office of Proceedings.
Kulunie L. Cannon,
Clearance Clerk.

[FR Doc. 2010-15817 Filed 6-29-10; 8:45 am]

BILLING CODE 4915-01-P